CORPORATION FOR NATIONAL AND COMMUNITY SERVICE

Sunshine Act Meetings

The Board of Directors of the Corporation for National and Community Service (operating as AmeriCorps) gives notice of the following meeting:

TIME AND DATE: Wednesday, October 19, 2022, 4:00 p.m.-5:00 p.m. (ET)

PLACE: AmeriCorps, 250 E Street SW, Washington, DC 20525. For health and safety reasons, this will be a virtual meeting.

• To register for the meeting, please use this link: https://americorps.zoomgov.com/webinar/register/WN_9b6kYQJjSbCTprosHUlPoQ

• To participate by phone, call toll free: (833) 568-8864.

STATUS: Open to the public.

MATTERS TO BE CONSIDERED:

I. Opening Remarks by the Chair

II. CEO Report

III. Oversight, Governance, and Audit Committee Report

IV. Approval of Grant Plan

V. Spotlight: Virtual Tour Around the Country of AmeriCorps' Role in Education

VI. Public Comment

VII. Chair's Closing Remarks and Adjournment

Members of the public who would like to comment on the business of the Board may do so in writing or virtually. Submit written comments to board@cns.gov with the subject line: “Comments for October 19, 2022, AmeriCorps Board Meeting” no later than 5:00 p.m. (ET) October 14, 2022. Individuals who would like to comment during the meeting will be given instructions for signing up when they join the meeting. Comments are requested to be limited to two minutes.

AmeriCorps provides reasonable accommodation to individuals with disabilities, where needed.

CONTACT PERSON FOR MORE INFORMATION: Henry Hicks, by telephone: (202) 606-6864 or by email: hhicks@cns.gov.

Fernando Laguarda,
General Counsel.

[FR Doc. 2022-22062 Filed 10-5-22; 4:15 pm]

BILLING CODE 6050-28-P